DEPARTMENT OF THE INTERIOR

National Park Service

[NPS-WASO-NAGPRA-NPS0039967; PPWOCRADN0-PCU00RP14.R50000]

Notice of Intended Repatriation: Shelburne Museum, Shelburne, VT

AGENCY: National Park Service, Interior.

ACTION: Notice.

SUMMARY: In accordance with the Native American Graves Protection and Repatriation Act (NAGPRA), the Shelburne Museum intends to repatriate certain cultural items that meet the definition of unassociated funerary objects, sacred objects, and/or objects of cultural patrimony and that have a cultural affiliation with the Indian Tribes or Native Hawaiian organizations in this notice.

DATES: Repatriation of the cultural items in this notice may occur on or after May 19, 2025.

ADDRESSES: Alexander Kikutis, Shelburne Museum, P.O. Box 10, Shelburne, VT 05482, telephone (802) 985-0871, email nagpra@shelburnemuseum.org.

SUPPLEMENTARY INFORMATION: This notice is published as part of the National Park Service's administrative responsibilities under NAGPRA. The determinations in this notice are the sole responsibility of the Shelburne Museum, and additional information on the determinations in this notice, including the results of consultation, can be found in the summary or related records. The National Park Service is not responsible for the determinations in this notice.

Abstract of Information Available

A total of seven cultural items have been requested for repatriation. The one associated funerary object is a pair of death moccasins. The six sacred objects are two umbilical cord cases, a war club, a ceremonial shirt, and two whistles. Between 1880 and 1900, Ogden Pleissner collected six of these cultural items from the central plains. In 1961, the Shelburne Museum acquired the cultural items from Pleissner. The ceremonial shirt was acquired from an educational Move Kit in 1989. The cultural items are attributed to the Tsitsitas/Suhtai (Cheyenne). Heavy metals, including arsenic and mercury were documented in pigments when a sample of 99 items was tested in March 2021 with a pXRF (pXRF, or portable x-ray florescence, collects data on the chemical composition of items, in a manner that is non-destructive). We have no record of pesticide use by any of our donors. Museum staff have occasionally used naphthalene and/or para-dichlorobenzene, in the form of mothballs, and dichlorvos (DDVP) in the form of Shell No-Pest Strips, however we have no records of them being used with Native American items.

Determinations

The Shelburne Museum has determined that:

• The one unassociated funerary object described in this notice is reasonably believed to have been placed intentionally with or near human remains, and are connected, either at the time of death or later as part of the death rite or ceremony of a Native American culture according to the Native American traditional knowledge of a lineal descendant, Indian Tribe, or Native Hawaiian organization. The unassociated funerary object has been identified by a preponderance of the evidence as related to human remains, specific individuals, or families, or removed from a specific burial site or burial area of an individual or individuals with cultural affiliation to an Indian Tribe or Native Hawaiian organization.

• The six sacred objects described in this notice are specific ceremonial objects needed by a traditional Native American religious leader for present-day adherents to practice traditional Native American religion, according to the Native American traditional knowledge of a lineal descendant, Indian Tribe, or Native Hawaiian organization.

• There is a reasonable connection between the cultural items described in this notice and the Cheyenne and Arapaho Tribes, Oklahoma.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 19, 2025. If competing requests for repatriation are received, the Shelburne Museum must determine the most appropriate requestor prior to repatriation. Requests for joint repatriation of the cultural items are considered a single request and not competing requests. The Shelburne Museum is responsible for sending a copy of this notice to the Indian Tribes and Native Hawaiian organizations identified in this notice and to any other consulting parties.

(Authority: Native American Graves Protection and Repatriation Act, 25 U.S.C. 3004 and the implementing regulations, 43 CFR 10.9.)

Dated: April 8, 2025.
Melanie O'Brien,
Manager, National NAGPRA Program.

[FR Doc. 2025-06655 Filed 4-17-25; 8:45 am]

BILLING CODE 4312-52-P